DEPARTMENT OF COMMERCE

National Institute of Standards and Technology

Announcement of NIST Partnership Opportunities for Technology Transfer

AGENCY: National Institute of Standards and Technology, Commerce.

ACTION: Announcement of NIST Partnership Opportunities for Technology Transfer.

SUMMARY: The National Institute of Standards and Technology (NIST) is interested in working with regional, state and local economic development organizations, technology incubation centers, technology-oriented public-private business development initiatives and other organizations and partnerships to facilitate the transfer of technologies developed within the NIST Labs to the private sector through potential licensing and/or collaboration. A sampling of commercially viable technologies developed at the NIST Labs may be viewed at: http://www.nist.gov/patents. This is not an opportunity to apply for government funding and NIST will not make any funds available to any party pursuant to this announcement.

FOR FURTHER INFORMATION CONTACT: National Institute of Standards and Technology, Office of Technology Partnerships, Attn: Clara Asmail, Building 222, Room A242, Gaithersburg, MD 20899. Information is also available via telephone: 301-975-2239, fax 301-975-3482, or e-mail: clara.asmail@nist.gov. Please reference “Opportunities for Tech Transfer Partnerships” in any communications.

Dated: September 10, 2009.
Patrick Gallagher,
Deputy Director.

[FR Doc. E9-22205 Filed 9-14-09; 8:45 am]

BILLING CODE 3510-13-P